CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its request for approval of a new information collection from representatives of communities served by organizations that conduct community service activities under the sponsorship of Corporation grants. This information will be used by the Corporation to evaluate the nature and effectiveness of its national service programs.

Copies of the proposed information collection request may be obtained by contacting the office listed below in the ADDRESSES section of this notice.

DATES: Written comments must be submitted to the office listed in the ADDRESSES section by August 13, 2001.

ADDRESSES: Send comments to the Corporation for National and Community Service Attn: Marcia Scott, Office of Evaluation, 1201 New York Avenue, N.W., 9th floor, Washington, D.C. 20525.

FOR FURTHER INFORMATION CONTACT: Marcia Scott, (202) 606-5000, ext. 100.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including through the use of appropriate automated, electronic, mechanical, or other technological collection techniques or other forms of information technology, e.g., permitting electronic submissions of responses.

Background:

The Corporation for National Service has the responsibility to evaluate the effectiveness of its program. The Corporation's major initiative is AmeriCorps, the national service program funded at $360 million annually. While the primary emphasis of AmeriCorps is on providing services to communities and other beneficiaries, of key importance is participant development. AmeriCorps includes the State and National program and the National Civilian Community Corps (NCCC) program. The objectives of this study are to describe the changes in those outcomes over time; to identify factors explaining variation in outcomes at different stages of time; and to identify relationships between selected program features and member outcomes. Outcome domains will include civic engagement, educational skill aspiration and achievements, employment skill aspiration and achievements, and life skills.

The Longitudinal Study of AmeriCorps Member Outcomes is designed to assess the effectiveness of AmeriCorps programs in meeting these objectives—member development outcomes. Previously, the Corporation received OMB approval (OMB # 3045-0060, expires September 30, 2002 and #3045-0070, expires September 31, 2003) to launch three rounds of surveys of AmeriCorps members and their counterparts in comparison groups.

Current Action

The Corporation seeks approval to continue to study the impact of AmeriCorps*State and National and AmeriCorps*NCCC. This is a request to add another round of data collection to the study. The purpose of this additional round of data collection is to supplement data collected at baseline and post-program and collect additional information about participation in service prior to AmeriCorps, and the decision-making process concerning enrolling or not enrolling in AmeriCorps. In addition, the survey will collect details about the AmeriCorps experience of members, and employment and educational experiences of individuals in the comparison group in the year after they considered joining, but did not actually join AmeriCorps. Analysis of baseline data collected in the initial round of surveys raised questions about participants' motivations about, and previous involvement in, community service. Data collected in the supplemental survey will allow us to address those concerns.

Type of Review: Revision of a currently approved collection.

Agency: Corporation for National and Community Service.

Title: The Longitudinal Research on Member Outcomes.

OMB Number: #3045-0070.

Agency Number: None.

Affected Public: AmeriCorps members, comparison group individuals.

Total Respondents: 1600 (800 AmeriCorps members; 800 Comparison group members).

Frequency: One time.

Average Time Per Response: 30 minutes.

Estimated Total Burden Hours: 800 hours.

Total Burden Cost (capital/startup): None.

Total Burden Cost (operating/maintenance): None.

Comments submitted in response to this notice will be summarized and/or included in the request for Office of Management and Budget approval of the information collection request; they also will become a matter of public record.

Dated: June 6, 2001.
David Rymph,
Acting Director, Department of Evaluation and Effective Practices.

[FR Doc. 01-14673 Filed 6-11-01; 8:45 am]

BILLING CODE 6050-$$-U